DEPARTMENT OF DEFENSE

Office of the Secretary

[Transmittal No. 25-44]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-44, Policy Justification, and Sensitivity of Technology.

Dated: January 21, 2026.
Stephanie J. Bost,
Alternate OSD Federal Register Liaison Officer, Department of Defense.

BILLING CODE 6001-FR-P

BILLING CODE 6001-FR-C

Transmittal No. 25-44

Notice of Proposed Issuance of Letter of Offer Pursuant to Section 36(b)(1) of the Arms Export Control Act, as amended

(i) Prospective Purchaser: Government of Italy

(ii) Total Estimated Value:

Major Defense Equipment* | $188 million
Other | $ 23 million
TOTAL | $211 million

(iii) Description and Quantity or Quantities of Articles or Services under Consideration for Purchase:

Major Defense Equipment (MDE):

Thirty (30) AIM-120D-3 Advanced Medium-Range Air-to-Air Missiles (AMRAAM)

Forty (40) AIM-120C-8 AMRAAMs

Two (2) AIM-120C-7 AMRAAM guidance sections

Non-Major Defense Equipment:

The following non-MDE items will also be included: AMRAAM control section spares and containers; spare and repair parts, consumables, accessories, and repair and return support; weapon system support and software; classified software delivery and support; classified publications and technical documentation; personnel training and training equipment; United States (U.S.) government and contractor engineering, technical, and logistical support services; and other related elements of logistics and program support.

(iv) Military Department: Air Force (IT-D-YAE)

(v) Prior Related Cases, if any: IT-D-YAD

(vi) Sales Commission, Fee, etc., Paid, Offered, or Agreed to be Paid: None known at this time

(vii) Sensitivity of Technology Contained in the Defense Article or Defense Services Proposed to be Sold: See Attached Annex

(viii) Date Report Delivered to Congress: June 16, 2025

* as defined in Section 47(6) of the Arms Export Control Act.

POLICY JUSTIFICATION

Italy—Advanced Medium-Range Air-to-Air Missiles

The Government of Italy has requested to buy thirty (30) AIM-120D-3 Advanced Medium-Range Air-to-Air Missiles (AMRAAM), forty (40) AIM-120C-8 AMRAAMs, and two (2) AIM-120C-7 AMRAAM guidance sections. The following non-MDE items will also be included: AMRAAM control section spares and containers; spare and repair parts, consumables, accessories, and repair and return support; weapon system support and software; classified and unclassified software delivery and support; classified and unclassified publications and technical documentation; personnel training and training equipment; U.S. government and contractor engineering, technical, and logistical support services; and other related elements of logistics and program support. The estimated total cost is $211 million.

This proposed sale will support the foreign policy goals and national security objectives of the U.S. by improving the security of a NATO Ally that is a force for political stability and economic progress in Europe.

The proposed sale will improve Italy's capability to meet current and future threats by ensuring Italy has modern, capable air-to-air munitions. It will also advance U.S. interoperability with NATO and the Italian Armed Forces. Italy already has AMRAAMs in its inventory and will have no difficulty absorbing this equipment into its armed forces.

The proposed sale of this equipment and support will not alter the basic military balance in the region.

The principal contractor will be RTX Corporation, located in Tucson, AZ. At this time, the U.S. government is not aware of any offset agreement proposed in connection with this potential sale. Any offset agreement will be defined in negotiations between the purchaser and the contractor.

Implementation of this proposed sale will not require the assignment of any additional U.S. government or contractor representatives to Italy.

There will be no adverse impact on U.S. defense readiness as a result of this proposed sale.

Transmittal No. 25-44

Notice of Proposed Issuance of Letter of Offer Pursuant to Section 36(b)(1) of the Arms Export Control Act

Annex

Item No. vii

(vii) Sensitivity of Technology:

1. The AIM-120D-3 series Advanced Medium-Range Air-to-Air Missile (AMRAAM) is a supersonic, air-launched, aerial intercept guided missile featuring digital technology and micro-miniature solid-state electronics. AMRAAM capabilities include look-down/shoot-down, multiple launches against multiple targets, resistance to electronic countermeasures, and interception of high and low-flying and maneuvering targets. The AIM-120D-3 features a quadrangle target detection device and an electronics unit within the guidance section that performs all radar signal processing, mid-course and terminal guidance, flight control, target detection, and warhead detonation.

2. AIM-120C-8 AMRAAM is a supersonic, air launched, aerial intercept, guided missile featuring digital technology and micro-miniature solid-state electronics. AMRAAM capabilities include look-down/shoot-down, multiple launches against multiple targets, resistance to electronic countermeasures, and interception of high and low-flying and maneuvering targets.

3. This potential sale will include AMRAAM guidance and control section spares.

4. The highest level of classification of defense articles, components, and services included in this potential sale is SECRET.

5. If a technologically advanced adversary were to obtain knowledge of the specific hardware and software elements, the information could be used to develop countermeasures that might reduce system effectiveness or be used in the development of a system with similar or advanced capabilities.

6. A determination has been made that Italy can provide substantially the same degree of protection for the sensitive technology being released as the U.S. government. This sale is necessary in furtherance of the U.S. foreign policy and national security objectives outlined in the Policy Justification.

7. All defense articles and services listed in this transmittal have been authorized for release and export to the Government of Italy.

[FR Doc. 2026-01341 Filed 1-23-26; 8:45 am]

BILLING CODE 6001-FR-P